DEPARTMENT OF DEFENSE

Department of the Army

[Docket ID: USA-2016-HQ-0028]

Privacy Act of 1974; System of Records

AGENCY: Department of the Army, DoD.

ACTION: Notice to alter a system of records.

SUMMARY: The Department of the Army proposes to alter a system of records notice A0690-600 SAMR, entitled “Equal Opportunity and Equal Employment Opportunity Complaint Files.” This system is used to ensure complaints are properly investigated and appropriate remedial action initiated to correct inequities. It is also used to collect, record, and maintain racial, ethnic group, and gender data; and complaints statistical data.

DATES: Comments will be accepted on or before September 9, 2016. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Chief, FOIA and Privacy, Department of the Army, U.S. Army Records Management and Declassification Agency, 7701 Telegraph Road, Casey Building, Suite 144, Alexandria, VA 22325-3905; telephone (703) 428-7499.

SUPPLEMENTARY INFORMATION: The Department of the Army's notices for systems of records subject to the Privacy Act of 1974 (5 U.S.C. 552a), as amended, have been published in the Federal Register and are available from the address in the FOR FURTHER INFORMATION CONTACT or from the Defense Privacy, Civil Liberties and Transparency Division Web site at http://dpcld.defense.gov.

The proposed systems reports, as required by 5 U.S.C. 552a(r) of the Privacy Act, as amended, were submitted on July 7, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: July 25, 2016.
Aaron Siegel,
Alternate OSD Federal Register Liaison Officer, Department of Defense.

A0690-600 SAMR

System name:

Equal Opportunity and Equal Employment Opportunity Complaint Files (February 22, 1993, 58 FR 10002).

Changes:

* * * * *

System identifier:

Delete entry and replace with “A0600-20 SAMR.”

System name:

Delete entry and replace with “Soldiers Equal Opportunity Investigative Files.”

System location:

Delete entry and replace with “Primary location: Office of the Secretary of the Army Manpower and Reserve Affairs (SAMR), 103 Army Pentagon, Washington, DC 20310-0103.

Segments of the system are maintained at Army installations. Official mailing addresses are published as an appendix to the Army's compilation of systems of records notices.”

Categories of individuals covered by the system:

Delete entry and replace with “Former and current U.S. Army military service members (active duty, reservist, or National Guard) who submit an Equal Opportunity compliant.”

Categories of records in the system:

Delete entry and replace with “Name, unit, race/ethnic group, gender, phone numbers, rank, grade, individual's complaint and supporting documentation, names of parties involved and witness statements, investigatory reports, decisional documents, and correspondence and any additional evidence gathered during the course of the investigation.”

Authority for maintenance of the system:

Delete entry and replace with “10 U.S.C. 3013, Department of the Army; DoD Directive 1350.2, Department of Defense Military Equal Opportunity (MEO) Program; DoD Instruction 1300.17, Accommodation of Religious Practices Within the Military Services; DoD Instruction 1325.06, Handling Dissident and Protest Activities Among Members of the Armed Forces; and Army Regulation 600-20, Army Command Policy.”

Purpose(s):

Delete entry and replace with “To ensure complaints are properly investigated and appropriate remedial action initiated to correct inequities. Demographic (e.g. race, ethnic group, gender) and de-identified complaints data is aggregated for statistical reporting.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The Blanket Routine Uses set forth at the beginning of the Army's compilation of systems of records notices may also apply to this system. The complete list of DoD Blanket Routine Uses can be found online at: http://dpcld.defense.gov/Privacy/SORNsIndex/BlanketRoutineUses.aspx.”

Policies and practices for storing, retrieving, accessing, retaining, and disposing of records in the system:

Storage:

Delete entry and replace with “Paper and electronic records storage.”

Retrievability:

Delete entry and replace with “By complainant's name.”

Safeguards:

Delete entry and replace with “Records are maintained in secured areas, accessible only to designated officials having official need in the performance of assigned duties. Access to electronic records is restricted by use of Common Access Cards (CACs) and is accessible only by users with an authorized account. The systems are maintained in controlled facilities that employ physical restrictions and safeguards such as security guards, identification badges, key cards, and locks.”

Retention and disposal:

Delete entry and replace with “At the primary location, files are permanent. Two years following closing of case, records are retired to the Washington National Records Center, Suitland, MD. Records at other Army locations are destroyed two years following the final action in the case. Paper records are destroyed by tearing, burning, melting, chemical decomposition, pulping, pulverizing, shredding, or mutilation. Electronic records and media are destroyed by overwriting, degaussing, disintegration, pulverization.”

* * * * *

Notification procedure:

Delete entry and replace with “Individuals seeking to determine whether information about themselves is contained in this system should address written inquiries to the Office of the Secretary of the Army Manpower and Reserve Affairs, 103 Army Pentagon, Washington, DC 20310-0103. Segments of the system are maintained at Army installations. Official mailing addresses are published as an appendix to the Army's compilation of systems of records notices.

Individual should provide the full name, and dates pertinent to individual's complaint.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the Office of the Secretary of the Army Manpower and Reserve Affairs, 103 Army Pentagon, Washington, DC 20310-0103. Segments of the system are maintained at Army installations. Official mailing addresses are published as an appendix to the Army's compilation of systems of records notices.

Individual should provide the full name, and dates pertinent to individual's complaint.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature)'.”

Contesting record procedures:

Delete entry and replace with “The Army's rules for accessing records, and for contesting contents and appealing initial agency determinations are published in 32 CFR part 505, Army Privacy Program, or may be obtained from the system manager.”

Record source categories:

Delete entry and replace with “From the individual, witnesses, and Army records and reports.”

Exemptions claimed for the system:

Delete entry and replace with “Parts of this system may be exempt under 5 U.S.C. 552a(k)(2).

An exemption rule for this system has been promulgated in accordance with the requirements of 5 U.S.C. 553(b)(1), (2) and (3), (c) and (e) and published in 32 CFR part 505. For additional information contact the system manager.”

A0600-20 SAMR

System name:

Soldiers Equal Opportunity Investigative Files.

System location:

Primary location: Office of the Secretary of the Army Manpower and Reserve Affairs (SAMR), 103 Army Pentagon, Washington, DC 20310-0103.

Segments of the system are maintained at Army installations. Official mailing addresses are published as an appendix to the Army's compilation of systems of records notices.

Categories of individuals covered by the system:

Former and current U.S. Army military service members (active duty, reservist, or National Guard) who submit an Equal Opportunity compliant.

Categories of records in the system:

Name, unit, race/ethnic group, gender, phone numbers, rank, grade, individual's complaint and supporting documentation, names of parties involved and witness statements, investigatory reports, decisional documents, and correspondence and any additional evidence gathered during the course of the investigation.

Authority for maintenance of the system:

10 U.S.C. 3013, Department of the Army; DoD Directive 1350.2, Department of Defense Military Equal Opportunity (MEO) Program; DoD Instruction 1300.17, Accommodation of Religious Practices Within the Military Services; DoD Instruction 1325.06, Handling Dissident and Protest Activities Among Members of the Armed Forces; and Army Regulation 600-20, Army Command Policy.

Purpose(s):

To ensure complaints are properly investigated and appropriate remedial action initiated to correct inequities. Demographic (e.g. race, ethnic group, gender) and de-identified complaints data is aggregated for statistical reporting.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The Blanket Routine Uses set forth at the beginning of the Army's compilation of systems of records notices may also apply to this system. The complete list of DoD Blanket Routine Uses can be found online at: http://dpcld.defense.gov/Privacy/SORNsIndex/BlanketRoutineUses.aspx.

Policies and practices for storing, retrieving, accessing, retaining, and disposing of records in the system:

Storage:

Paper and electronic records storage.

Retrievability:

By complainant's name.

Safeguards:

Records are maintained in secured areas, accessible only to designated officials having official need in the performance of assigned duties. Access to electronic records is restricted by use of Common Access Cards (CACs) and is accessible only by users with an authorized account. The systems are maintained in controlled facilities that employ physical restrictions and safeguards such as security guards, identification badges, key cards, and locks.

Retention and disposal:

At the primary location, files are permanent. Two years following closing of case, records are retired to the Washington National Records Center, Suitland, MD. Records at other Army locations are destroyed two years following the final action in the case. Paper records are destroyed by tearing, burning, melting, chemical decomposition, pulping, pulverizing, shredding, or mutilation. Electronic records and media are destroyed by overwriting, degaussing, disintegration, pulverization.

System manager(s) and address:

Secretary of the Army Manpower and Reserve Affairs, 103 Army Pentagon, Washington, DC 20310-0103.

Notification procedure:

Individuals seeking to determine whether information about themselves is contained in this system should address written inquiries to the Office of the Secretary of the Army Manpower and Reserve Affairs, 103 Army Pentagon, Washington, DC 20310-0103. Segments of the system are maintained at Army installations. Official mailing addresses are published as an appendix to the Army's compilation of systems of records notices.

Individual should provide the full name, and dates pertinent to individual's complaint.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

Record access procedures:

Individuals seeking access to information about themselves contained in this system should address written inquiries to the Office of the Secretary of the Army Manpower and Reserve Affairs, 103 Army Pentagon, Washington, DC 20310-0103. Segments of the system are maintained at Army installations. Official mailing addresses are published as an appendix to the Army's compilation of systems of records notices.

Individual should provide the full name, and dates pertinent to individual's complaint.

In addition, the requester must provide a notarized statement or an unsworn declaration made in accordance with 28 U.S.C. 1746, in the following format:

If executed outside the United States: “I declare (or certify, verify, or state) under penalty of perjury under the laws of the United States of America that the foregoing is true and correct. Executed on (date). (Signature).” If executed within the United States, its territories, possessions, or commonwealths: “I declare (or certify, verify, or state) under penalty of perjury that the foregoing is true and correct. Executed on (date). (Signature).”

Contesting record procedures:

The Army's rules for accessing records, and for contesting contents and appealing initial agency determinations are published in 32 CFR part 505, Army Privacy Program, or may be obtained from the system manager.

Record source categories:

From the individual, witnesses, and Army records and reports.

Exemptions claimed for the system:

Parts of this system may be exempt under 5 U.S.C. 552a(k)(2).

An exemption rule for this system has been promulgated in accordance with the requirements of 5 U.S.C. 553(b)(1), (2) and (3), (c) and (e) and published in 32 CFR part 505. For additional information contact the system manager.

[FR Doc. 2016-18823 Filed 8-9-16; 8:45 am]

BILLING CODE 5001-06-P